DEPARTMENT OF COMMERCE

National Oceanic and Atmospheric Administration

[I.D. 120402B]

Endangered and Threatened Species; Take of Anadromous Fish

AGENCY: National Marine Fisheries Service (NMFS), National Oceanic and Atmospheric Administration (NOAA), Commerce.

ACTION: Issuance of modification to permit 1044 to the Southwest Fisheries Science Center (SWFSC) in Santa Cruz, CA.

SUMMARY: Notice is given that NMFS has issued a modification to permit 1044 to SWFSC that authorizes takes of threatened Endangered Species Act (ESA) listed anadromous fish species for research purposes subject to certain conditions set forth therein.

ADDRESSES: The applications and related documents are available for review in the following offices, by appointment:

Protected Resources Division, NMFS, 777 Sonoma Avenue, Room 325, Santa Rosa, CA 95404-6528.

FOR FURTHER INFORMATION CONTACT: For permit 1044: Diana Hines, Protected Resources Division, NMFS, Santa Rosa, CA (707) 575-6057, or e-mail: diana.hines@noaa.gov.

SUPPLEMENTARY INFORMATION:

Species Covered in This Notice

The following species and evolutionarily significant units are covered in this notice: Central California Coast steelhead (Oncorhynchus mykiss).

Issuance of this permit, as required by the ESA, was based on a finding that such modification was: (1) applied for in good faith; (2) would not operate to the disadvantage of the listed species which are the subject of the permit; and (3) is consistent with the purposes and policies set forth in section 2 of the ESA. This permit was issued in accordance with, and is subject to, part 222 of Title 50 CFR, the NMFS regulations governing listed species permits.

Modification to Permit Issued

Notice was published on August 23, 2002, that SWFSC applied for a modification to permit 1044 to take threatened Central California Coast steelhead associated with a life history diversity study and density study in Soquel Creek, CA. Modification 2 to Permit 1044 was issued on November 12, 2002, authorizing takes of juvenile, threatened, Central California Coast steelhead. Modification 2 is valid for the duration of the permit.

Permit 1044M2 expires June 30, 2007.

Dated: December 4, 2002.
Margaret Lorenz,
Acting Chief, Endangered Species Division,Office of Protected Resources, National Marine Fisheries Service.

[FR Doc. 02-31159 Filed 12-9-02; 8:45 am]

BILLING CODE 3510-22-S